INTERNATIONAL TRADE COMMISSION

[Investigation No. 337-TA-1459]

Certain Child Car Seats; Notice of Institution of Investigation

AGENCY: U.S. International Trade Commission.

ACTION: Notice.

SUMMARY: Notice is hereby given that a complaint was filed with the U.S. International Trade Commission on July 24, 2025, under section 337 of the Tariff Act of 1930, as amended, on behalf of Wonderland Switzerland AG of Switzerland; Iron Mountains, LLC of Morgantown, Pennsylvania; Nuna International B.V. of the Netherlands; Nuna Baby Essentials, Inc. of Morgantown, Pennsylvania; Joie International Co., Ltd. of Hong Kong; Joie Children's Products, Inc. of Morgantown, Pennsylvania; and Graco Children's Products Inc. of Atlanta, Georgia. Supplements to the complaint were filed on July 30, 2025 and August 13, 2025. The complaint, as supplemented, alleges violations of section 337 based upon the importation into the United States, the sale for importation, and the sale within the United States after importation of certain child car seats by reason of the infringement of certain claims of U.S. Patent No. 7,625,043 (“the '043 patent”) and U.S. Patent No. 10,457,168 (“the '168 patent”). The complaint, as supplemented, further alleges that an industry in the United States exists or is in the process of being established as required by the applicable Federal Statute. The complainants request that the Commission institute an investigation and, after the investigation, issue a limited exclusion order and cease and desist orders.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Susan Orndoff, The Office of the Secretary, Docket Services Division, U.S. International Trade Commission, telephone (202) 205-1802.

SUPPLEMENTARY INFORMATION:

Authority: The authority for institution of this investigation is contained in section 337 of the Tariff Act of 1930, as amended, 19 U.S.C. 1337, and in section 210.10 of the Commission's Rules of Practice and Procedure, 19 CFR 210.10 (2025).

Scope of Investigation: Having considered the complaint, the U.S. International Trade Commission, on August 25, 2025, ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 1 and 2 of the '043 patent and claims 17, 20, 25, and 28 of the '168 patent, and whether an industry in the United States exists or is in the process of being established as required by subsection (a)(2) of section 337;

(2) Pursuant to section 210.10(b)(1) of the Commission's Rules of Practice and Procedure, 19 CFR 210.10(b)(1), the plain language description of the accused products or category of accused products, which defines the scope of the investigation, is “adjustable child car seats that either have a detachable seat back or are rotatable on a support base”;

(3) For the purpose of the investigation so instituted, the following are hereby named as parties upon which this notice of investigation shall be served:

(a) The complainants are:

Wonderland Switzerland AG, Beim Bahnhof 5 Steinhausen, ZUG, 6312, Switzerland

Iron Mountains, LLC, 70 Thousand Oaks Blvd., Morgantown, PA 19543

Nuna International B.V., Van der Valk Boumanweg 178-C, Leiderdorp, 2352 JD, NL

Nuna Baby Essentials, Inc., 70 Thousand Oaks Blvd., Morgantown, PA 19543

Joie International Co., Ltd., 31/F, Tower Two, Times Square, 1 Matheson Street, Causeway Bay, Hong Kong

Joie Children's Products, Inc., 70 Thousand Oaks Blvd., Morgantown, PA 19543

Graco Children's Products Inc., 5 Concourse Parkway, 8th Floor, Atlanta, GA 30328

(b) The respondents are the following entities alleged to be in violation of section 337, and are the parties upon which the complaint is to be served:

Dorel Juvenile Group, Inc., 25 Forbes Boulevard, Suite 4, Foxboro, MA 02035

Dorel Industries Inc., 1255 Greene Avenue, Suite 300, Westmount QC, Canada H3Z 2A4

Guangdong Roadmate Group Co., Ltd., No. 16 Yongyi 6th Road, Henglan, Zhongshan, 528400 China

Roadmate Trading (Hong Kong) Limited, 288 Des Voeux Rd C, Rm A 17/F, Sheung Wan, Hong Kong 999077

Zhongshan Roadmate Juvenile Products Co., No. 1 Qingfeng Road, Henglan, Zhongshan, 528478 China

(4) For the investigation so instituted, the Chief Administrative Law Judge, U.S. International Trade Commission, shall designate the presiding Administrative Law Judge.

The Office of Unfair Import Investigations will not participate as a party in this investigation.

Responses to the complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: August 25, 2025.
Lisa Barton,
Secretary to the Commission.

[FR Doc. 2025-16449 Filed 8-27-25; 8:45 am]

BILLING CODE 7020-02-P